FEDERAL DEPOSIT INSURANCE CORPORATION

Sunshine Act Meeting

Notice of a Matter To Be Deferred From the Agenda for Consideration at an Agency Meeting

Pursuant to the provisions of the “Government in the Sunshine Act” (5 U.S.C. 552b), notice is hereby given that the following matter will be deferred from the “Summary agenda” for consideration at the open meeting of the Board of Directors of the Federal Deposit Insurance Corporation scheduled to be held at 10:00 a.m. on Tuesday, June 4, 2013, in the Board Room on the sixth floor of the FDIC Building located at 550—17th Street NW., Washington, DC:

Memorandum and resolution re: Proposed Revisions to the Authority of the Case Review Committee.

Requests for further information concerning the meeting may be directed to Mr. Robert E. Feldman, Executive Secretary of the Corporation, at (202) 898-7122.

Dated: May 31, 2013.
Federal Deposit Insurance Corporation.
Robert E. Feldman,
Executive Secretary.

[FR Doc. 2013-13326 Filed 5-31-13; 4:15 pm]

BILLING CODE P